DEPARTMENT OF JUSTICE

Antitrust Division

Notice Pursuant to the National Cooperative Research and Production Act of 1993—Sematech, Inc. d/b/a International Sematech

Notice is hereby given that, on March 16, 2012, pursuant to Section 6(a) of the National Cooperative Research and Production Act of 1993, 15 U.S.C. 4301 et seq. (“the Act”), Sematech, Inc. d/b/a International Sematech (“SEMATECH”) has filed written notifications simultaneously with the Attorney General and the Federal Trade Commission disclosing changes in its membership. The notifications were filed for the purpose of extending the Act's provisions limiting the recovery of antitrust plaintiffs to actual damages under specified circumstances. Specifically, Centrotherm Photovoltaics AG, Blaubeuren, GERMANY; Fujifilm Holdings Corporation, Tokyo, JAPAN; Inpria Corporation, Corvallis, OR; and Invensas Corporation, San Jose, CA, have been added as parties to this venture.

Also, United Microelectronics Corporation, Inc., Hsinchu City, TAIWAN; and Asahi Glass Corporation, Chiyodaku, Tokyo, JAPAN, have withdrawn as parties to this venture.

In addition, the following have been added as members to International SEMATECH Manufacturing Initiative, Inc. (“ISMI”): Winbond Electronics Corporation, Taichung City, TAIWAN; Macronix International Co. Ltd., Hsinchu, TAIWAN; and Renesas Electronics Corporation, Santa Clara, CA.

No other changes have been made in either the membership or planned activity of the group research project. Membership in this group research project remains open, and SEMATECH intends to file additional written notifications disclosing all changes in membership.

On April 22, 1988, SEMATECH filed its original notification pursuant to Section 6(a) of the Act. The Department of Justice published a notice in the Federal Register pursuant to Section 6(b) of the Act on May 19, 1988 (53 FR 17987).

The last notification was filed with the Department on November 18, 2011. A notice was published in the Federal Register pursuant to Section 6(b) of the Act on December 21, 2011 (76 FR 79219).

Patricia A. Brink,
Director of Civil Enforcement, Antitrust Division.

[FR Doc. 2012-8936 Filed 4-12-12; 8:45 am]

BILLING CODE P